DEPARTMENT OF THE TREASURY

Submission for OMB Review; Comment Request

October 10, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before November 20, 2000 to be assured of consideration.

Departmental Offices/International Portfolio Investment Data Reporting System

OMB Number: 1505-0001.

Form Number: International Capital Form S.

Type of Review: Revision.

Title: Purchases and Sales of Long-Term Securities by Foreigners.

Description: Form S is required by law and is designed to collect timely information on international portfolio capital movements, including foreigners' purchases and sales of long-term securities in transactions with U.S. persons. This information is necessary for compiling the U.S. balance of payments, for calculating the U.S. international investment position, and for formulating U.S. international financial and monetary policies.

Respondents: Business or other for-profit.

Estimated Number of Respondents: 240.

Estimated Burden Hours Per Respondent: 5 hours.

Frequency of Response: Monthly.

Estimated Total Reporting Burden: 16,200 hours.

OMB Number: 1505-0016.

Form Number: International Capital Form BQ-1, Parts 1 and 2.

Type of Review: Revision.

Title: Reporting Bank's Own Claims and Selected Claims of Broker or Dealer on Foreigners (Form BQ-1, Part 1); and Domestic Customers Claims on Foreigners Held by Reporting Bank, Broker or Dealer, Denominated in Dollars (Form BQ-1, Part 2).

Description: Form BQ-1 is required by law and is designed to collect timely information on international portfolio capital movements, including U.S. dollar claims of banks, other depository institutions, brokers and dealers, and of their domestic customers vis-a-vis foreigners. This information is necessary for compiling U.S. international financial and monetary policies.

Respondents: Business or other for-profit.

Estimated Number of Respondents: 320.

Estimated Burden Hours Per Respondent: 4 hours.

Frequency of Response: Quarterly.

Estimated Total Reporting Burden: 5,600 hours.

OMB Number: 1505-0017.

Form Number: International Capital Form BC/BC(SA).

Type of Review: Revision.

Title: Reporting Bank's Own Claims, and Selected Claims of Broker or Dealer, on Foreigners, Denominated in Dollars.

Description: Form BC/BC(SA) is required by law and is designed to collect timely information on international portfolio capital movements, including U.S. dollar claims of banks, other depository institutions, brokers and dealers, and of their domestic customers vis-a-vis foreigners. This information is necessary for compiling U.S. international financial and monetary policies.

Respondents: Business or other for-profit.

Estimated Number of Respondents: 355.

Estimated Burden Hours Per Respondent: 8 hours.

Frequency of Response: Monthly, Semi-annually.

Estimated Total Reporting Burden: 39,200 hours.

OMB Number: 1505-0018.

Form Number: International Capital Form BL-2/BL-2(SA).

Type of Review: Revision.

Title: Custody Liabilities of Reporting Banks, Brokers and Dealers to Foreigners, Denominated in Dollars.

Description: Form BL-2/BL-2(SA) is required by law and is designed to collect timely information on international portfolio capital movements, including U.S. dollar custody liabilities of banks, other depository institutions, brokers and dealers, and of their domestic customers vis-a-vis foreigners. This information is necessary for compiling U.S. balance of payments, for calculating U.S. international investment position, and for formulating U.S. international financial and monetary policies.

Respondents: Business or other for-profit.

Estimated Number of Respondents: 110.

Estimated Burden Hours Per Respondent: 5 hours, 30 minutes.

Frequency of Response: Monthly, Semi-annually.

Estimated Total Reporting Burden: 9,900 hours.

OMB Number: 1505-0019.

Form Number: International Capital Form BL-1/BL-1(SA).

Type of Review: Revision.

Title: Reporting Bank's Own Liabilities, and Selected Liabilities of Broker or Dealer, to Foreigners, Denominated in Dollars.

Description: Form BL-1/BL-1(SA) is required by law and is designed to collect timely information on international portfolio capital movements, including U.S. dollar liabilities of banks, other depository institutions, brokers and dealers, and of their domestic customers vis-a-vis foreigners. This information is necessary for compiling U.S. balance of payments, for calculating U.S. international investment position, and for formulating U.S. international financial and monetary policies.

Respondents: Business or other for-profit.

Estimated Number of Respondents: 415.

Estimated Burden Hours Per Respondent: 8 hours.

Frequency of Response: Monthly, Semi-annually.

Estimated Total Reporting Burden: 46,000 hours.

OMB Number: 1505-0020.

Form Number: International Capital Form BQ-2, Parts 1 and 2.

Type of Review: Revision.

Title: Liabilities to, and Claims on, Foreigners of Reporting Bank, Broker or Dealer (Form BQ-1, Part 1); and Domestic Customers' Claims on Foreigners Held by Reporting Bank, Broker or Dealer, Denominated in Foreign Currencies.

Description: Form BQ-2 is required by law and is designed to collect timely information on international portfolio capital movements, including liabilities to, and claims on, foreigners of banks, brokers and dealers, and custody claims on foreigners other depository institutions, brokers and dealers, that are denominated in foreign currencies. This information is necessary for compiling U.S. balance of payments, for calculating U.S. international investment position, and for formulating U.S. international financial and monetary policies.

Respondents: Business or other for-profit.

Estimated Number of Respondents: 110.

Estimated Burden Hours Per Respondent: 4 hours, 30 minutes.

Frequency of Response: Quarterly.

Estimated Total Reporting Burden: 2,520 hours.

Clearance Officer: Lois K. Holland, (202) 622-1563, Departmental Offices, Room 2110, 1425 New York Avenue, N.W., Washington, DC 20220.

OMB Reviewer: Alexander T. Hunt, (202) 395-7860, Office of Management and Budget, Room 10202, New Executive Office Building, Washington, DC 20503.

Lois K. Holland,
Departmental Reports Management Officer.

[FR Doc. 00-26796 Filed 10-18-00; 8:45 am]

BILLING CODE 4810-25-U